DEPARTMENT OF ENERGY

Federal Energy Regulatory Commission

[ Docket No. RP99-301-098]

ANR Pipeline Company; Notice of Negotiated Rate Filing

December 4, 2003.

Take notice that on December 1, 2003, ANR Pipeline Company (ANR) tendered for filing and approval three amendments to existing negotiated rate service agreements between ANR and NJR Energy Services Company.

ANR requests that the Commission accept and approve the subject negotiated rate agreement amendments to be effective December 1, 2003.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E3-00516 Filed 12-10-03; 8:45 am]

BILLING CODE 6717-01-P